FEDERAL COMMUNICATIONS COMMISSION

47 CFR Part 73

[MB Docket Nos. 18-214, 12-268; FCC 18-113]

LPTV, TV Translator, and FM Broadcast Station Reimbursement; Expanding the Economic and Innovation Opportunities of Spectrum Through Incentive Auctions

AGENCY: Federal Communications Commission.

ACTION: Final action.

SUMMARY: In this document, the Commission directs the Media Bureau to engage a contractor to assist in the reimbursement process and administration of the Reimbursement Fund for LPTV, TV translator, and FM stations, and also directs the Bureau to make determinations regarding eligible costs and the reimbursement process, such as calculating the amount of allocations to eligible entities and seeking comment on a revised Catalog of Eligible Expenses. The Commission also determines that the Media Bureau will announce, pursuant to the requirements in the Reimbursement Expansion Act, when the reimbursement program for all entities eligible for reimbursement pursuant to the Spectrum Act and the Reimbursement Expansion Act will end. Finally, the Commission interprets the Reimbursement Expansion Act as providing at least $50 million for use by the Commission to fund its efforts to educate consumers about the reorganization of broadcast television spectrum under the United States Code.

DATES: This action is effective August 27, 2018.

FOR FURTHER INFORMATION CONTACT: Maria Mullarkey, Maria.Mullarkey@fcc.gov, of the Media Bureau, Policy Division, (202) 418-2120. For additional information concerning the Paperwork Reduction Act information collection requirements contained in this document, contact Cathy Williams at (202) 418-2918 or send an email to PRA@fcc.gov.

SUPPLEMENTARY INFORMATION: This is a summary of the Commission's Order, FCC 18-113, adopted on August 2, 2018, and released on August 3, 2018. The full text of this document is available electronically via the FCC's Electronic Document Management System (EDOCS) website at http://fjallfoss.fcc.gov/edocs_public/ or via the FCC's Electronic Comment Filing System (ECFS) website at http://fjallfoss.fcc.gov/ecfs2/. Documents will be available electronically in ASCII, Microsoft Word, and/or Adobe Acrobat. This document is also available for public inspection and copying during regular business hours in the FCC Reference Information Center, Federal Communications Commission, 445 12th Street SW, CY-A257, Washington, DC 20554. Alternative formats are available for people with disabilities (Braille, large print, electronic files, audio format), by sending an email to fcc504@fcc.gov or calling the Commission's Consumer and Governmental Affairs Bureau at (202) 418-0530 (voice), (202) 418-0432 (TTY).

The Order does not contain new or modified information collection requirements subject to the Paperwork Reduction Act of 1995. In addition, therefore, it does not contain any new or modified information collection burdens for small business concerns with fewer than 25 employees, pursuant to the Small Business Paperwork Relief Act of 2002.

I. Order

1. Reimbursement Contractor. Similar to the approach the Commission took with respect to full power, Class A, and MVPD entities,¹ we direct the Media Bureau to engage a contractor to assist in the reimbursement process and administration of the Reimbursement Fund for LPTV/translator and FM stations. We direct the Media Bureau to engage a third-party contractor to assist in the reimbursement process, which will be overseen by the Bureau.

¹ See Expanding the Economic and Innovation Opportunities of Spectrum Through Incentive Auctions, Report and Order, 29 FCC Rcd 6567, 6820, paras. 618-19 (2014), 79 FR 48442 (Aug. 15, 2014), (Incentive Auction R&O).

2. Reimbursement Process. We direct the Media Bureau to revise the forms to be used by eligible LPTV/translator and FM stations to claim reimbursement from the Reimbursement Fund and for any other Reimbursement Fund-related purposes. We also direct the Media Bureau to calculate the amount of the allocations to eligible entities from the Reimbursement Fund, develop a revised Catalog of Eligible Expenses, and make other determinations regarding eligible costs and the reimbursement process. Finally, we direct the Media Bureau to implement the necessary policies and procedures relating to eligibility certifications, allocations, draw downs, payments, obligations, and expenditures of money from the Reimbursement Fund in order to protect against waste, fraud, and abuse and in the event of bankruptcy. Given the importance of maintaining the integrity of the Fund, the Media Bureau will consult with the Office of General Counsel and the Office of the Managing Director in acting pursuant to this direction.

3. Reimbursement Period. The Reimbursement Expansion Act ² provides that the Commission must make all reimbursements using the additional funds appropriated by the Reimbursement Expansion Act to the Reimbursement Fund by July 3, 2023.³ With respect to LPTV/translators and FM stations, we authorize the Media Bureau to announce, in one or more public notices to be issued following the adoption of an Order, the date by which these entities must file their Eligibility Certification, when allocations to these entities will be made, the deadline by which these entities must file any remaining requests for reimbursement, and the final date when reimbursement funds will be issued.

² See Consolidated Appropriations Act, 2018, Public Law 115-141, at Division E, Title V, sec. 511, 132 Stat. 348 (2018) (codified at 47 U.S.C. 1452(j)-(n)).

³ See 47 U.S.C. 1452(j)(3)(B). Section 511(j)(3)(C) provides that, if all reimbursements pursuant to the Spectrum Act and the Reimbursement Expansion Act have been made before July 3, 2023, “the Commission shall submit to the Secretary of the Treasury a certification that all such reimbursements have been made.” Id. sec. 1452(j)(3)(C). In addition, the Reimbursement Expansion Act provides that reimbursement payments to LPTV/translator and FM stations may not be made after April 13, 2020 unless the Commission “submits to Congress a certification that such payments are necessary to reimburse costs reasonably incurred” by such stations. See id. sec. 1452(j)(2)(C)(ii), (iii).

4. The Commission indicated in the Incentive Auction R&O that the Media Bureau will announce the date by which full power, Class A, and MVPD entities must submit their final expense documentation to the Commission.⁴ At the time of that delegation, the Spectrum Act imposed a deadline for the Commission to make all required reimbursements to full power, Class A, and MVPD entities of April 13, 2020.⁵ The Reimbursement Expansion Act permits the Commission to extend the deadline for reimbursements to full power, Class A, and MVPD entities, from the funds appropriated for this purpose by the Reimbursement Expansion Act, beyond April 13, 2020,⁶ but no later than July 3, 2023, as long as the certification requirements set forth in the Reimbursement Expansion Act are met.⁷ The Incentive Auction R&O stated that the Media Bureau may announce the final date reimbursement funds will be issued to full power and Class A stations and MVPDs and a deadline for the submission of final expense documentation, and we clarify that the Bureau also is authorized to set deadlines for funds appropriated by the Reimbursement Expansion Act.

⁴ See Incentive Auction R&O, 29 FCC Rcd at 6819, para. 617.

⁵ The deadline for full power and Class A stations to transition to their new channels is July 13, 2020.

⁶ 47 U.S.C. 1452(j)(2)(C)(i).

⁷ Id. sec. 1452(j)(3)(B).

5. Consumer Education. The Reimbursement Expansion Act provides that at least $50 million from the funds appropriated to the Reimbursement Fund will be available to the Commission to make “payments solely for the purposes of consumer education relating to the reorganization of broadcast television spectrum” under 47 U.S.C. 1452(b).⁸ We interpret this provision as providing at least $50 million for use by the Commission to fund its efforts to educate consumers about the reorganization of broadcast television spectrum under 47 U.S.C. 1452(b), with any unused funds to be returned to the U.S. Treasury. We anticipate, among other initiatives, hosting a dedicated consumer service call center to provide consumers technical support and assistance on such matters as rescanning and other means to resolve potential reception issues. We also intend to perform targeted outreach to specific communities about rescanning, and, where appropriate, we may use local media or other outreach to disseminate rescanning information. Consumer education funding could also be used in developing additional online resources to support consumers. In all our activities, we will coordinate closely with industry stakeholders to ensure that our consumer education efforts are complementary to, and not duplicative of, industry efforts. In so doing, we will guard against unnecessary or wasteful spending. We welcome input from consumers and industry on other ways we can best use the funding to help mitigate disruption by consumers during the transition period.

⁸ Id. sec. 1452(j)(2)(A)(iv).

II. Procedural Matters

A. Final Regulatory Flexibility Act Analysis

6. Because the actions taken in the Order do not require notice and comment, the Regulatory Flexibility Act does not apply.

III. Ordering Clauses

7. It is ordered that, pursuant to the authority contained in Sections 1, 4, 5(b), 5(c), 303, and 336(f) of the Communications Act of 1934, as amended, Section 6403 of the Middle Class Tax Relief and Job Creation Act of 2012, and Section 511, Division E, Title V of the Consolidated Appropriations Act, 2018, Pub. L. 115-141 (2018), 47 U.S.C. 151, 154, 155(b), 155(c), 303, 336(f), 1452, the Order is adopted and will become effective on August 27, 2018.

8. It is further ordered that the Commission's Consumer and Governmental Affairs Bureau, Reference Information Center, shall send a copy of this Order to the Chief Counsel for Advocacy of the Small Business Administration.

9. It is further ordered that the Commission will send a copy of the Order in a report to Congress and the Government Accountability Office pursuant to the Congressional Review Act (CRA), see 5 U.S.C. 801(a)(1)(A).

Federal Communications Commission.
Cecilia Sigmund,
Federal Register Liaison Officer.

[FR Doc. 2018-17945 Filed 8-24-18; 8:45 am]

BILLING CODE 6712-01-P